DEPARTMENT OF COMMERCE

National Oceanic and Atmospheric Administration

[I.D. 102102A]

National Plan of Action for the Management of Fishing Capacity

AGENCY: National Marine Fisheries Service (NMFS), National Oceanic and Atmospheric Administration (NOAA), Commerce.

ACTION: Notice of availability of draft plan.

SUMMARY: NMFS announces the availability of a draft National Plan of Action (NPOA) developed pursuant to the International Plan of Action (IPOA) for the Management of Fishing Capacity by the United Nations' Food and Agriculture Organization (FAO) Committee on Fisheries (COFI) Ministerial Meeting in February 1999. Members of the public are encouraged to provide comments on the draft NPOA.

DATES: Comments must be received no later than March 17, 2003.

ADDRESSES: Written comments and requests for copies of the draft NPOA should be submitted to Matteo Milazzo, Regulatory Services Division, Office of Sustainable Fisheries, NMFS, 1315 East-West Highway, Silver Spring, MD 20910, or may be sent via facsimile (fax) to 301-713-0596. Comments will not be accepted if submitted via e-mail or Internet.

FOR FURTHER INFORMATION CONTACT: Matteo Milazzo at 301-713-2337, fax 301-713-0596.

SUPPLEMENTARY INFORMATION:

Electronic Access

The draft U.S. NPOA for the Management of Fishing Capacity is available electronically at the following address: http://www.nmfs.noaa.gov/sfa/sfweb/index.htm.

Background

The United States played a significant role during the 1990s in global programs to accurately identify and assess the problem of overcapacity in marine fisheries, and was a key player in the FAO technical and policy-level consultations of 1997-1999 that led to the International Plan of Action for the Management of Fishing Capacity. The IPOA calls on member nations to voluntarily develop, adopt and make public national plans of action for the management of fishing capacity, and if required, reduce fishing capacity in order to balance fishing capacity with available resources on a sustainable basis. The plans are to be based on an assessment of fish stocks and should give due consideration to the socio-economic aspects of reducing fishing capacity.

The United States has been committed to developing this national plan, and reporting on its implementation to FAO/COFI. NMFS seeks public comments on the Capacity NPOA and the public's input will be used to develop the final NPOA.

Dated: February 11, 2003.
Richard W. Surdi,
Acting Director, Office of Sustainable Fisheries, National Marine Fisheries Service.

[FR Doc. 03-3846 Filed 2-14-03; 8:45 am]

BILLING CODE 3510-22-S